SECURITIES AND EXCHANGE COMMISSION

Submission for OMB Review; Comment Request

Upon Written Request, Copies Available From: Securities and Exchange Commission, Office of Filings and Information Services, 450 5th Street, NW., Washington, DC 20549.

Extension:

Rule 26, SEC File No.270-78, OMB Control No. 3235-0183.

Notice is hereby given that, pursuant to the Paperwork Reduction Act of 1995 (44 U.S.C. 3501 et seq.), the Securities and Exchange Commission (“Commission”) has submitted to the Office of Management and Budget (“OMB”) a request for extension of the matters relating to the previously approved collections of information discussed below.

Rule 26, part 250.26 [17 CFR 250.26] under the Public Utility Holding Company Act of 1935, as amended (“Act”), 15 U.S.C. 79, et seq., establishes financial statement and recordkeeping requirements for public utility holding companies registered under the Act and all their subsidiary companies.

The Commission estimates that the total annual reporting burden of Rule 26 is approximately one (1) hour.

The estimate of average burden hours is made for purposes of the Paperwork Reduction Act and is not derived from a comprehensive or representative survey or study of the costs of complying with the requirements of Commission rules and forms.

An agency may not conduct or sponsor, and a person is not required to respond to, a collection of information unless it displays a currently valid control number.

Please direct general comments regarding the above information to the following persons: (i) Desk Officer for the Securities and Exchange Commission, Office of Information and Regulatory Affairs, Office of Management and Budget, room 10102, New Executive Office Building, Washington, DC 20503; and (ii) Kenneth A. Fogash, Acting Associate Executive Director/CIO, Office of Information Technology, Securities and Exchange Commission, 450 Fifth Street, Washington, DC 20549. Comments must be submitted to OMB within 30 days of this notice.

Dated: October 13, 2003.
Margaret H. McFarland,
Deputy Secretary.

[FR Doc. 03-26707 Filed 10-22-03; 8:45 am]

BILLING CODE 8010-01-P